FEDERAL HOUSING FINANCE BOARD

[No. 2002-N-6]

Proposed Collection; Comment Request

AGENCY: Federal Housing Finance Board.

ACTION: Notice.

SUMMARY: In accordance with the requirements of the Paperwork Reduction Act of 1995, the Federal Housing Finance Board (Finance Board) is seeking public comments concerning a three-year extension by the Office of Management and Budget (OMB) of the previously approved information collection currently known as “Advances to Housing Associates.” The information collection formerly was titled “Advances to Nonmember Mortgagees.”

DATES: Interested persons may submit comments on or before August 27, 2002.

ADDRESSES: Address comments and requests for copies of the information collection to Elaine L. Baker, Secretary to the Board, by telephone at 202/408-2837, by electronic mail at bakere@fhfb.gov, or by regular mail at the Federal Housing Finance Board, 1777 F Street, NW., Washington, DC 20006.

FOR FURTHER INFORMATION CONTACT: Jonathan F. Curtis, Senior Financial Analyst, Market Research and System Analysis Division, Office of Policy, Research and Analysis, by telephone at 202/408-2866, by electronic mail at curtsj@fhfb.gov, or by regular mail at the Federal Housing Finance Board, 1777 F Street, NW., Washington, DC 20006.

SUPPLEMENTARY INFORMATION:

A. Need For and Use of the Information Collection

Section 10b of the Federal Home Loan Bank Act (Bank Act) authorizes the Federal Home Loan Banks (FHLBanks) to make advances under certain circumstances to certified nonmember mortgagees.¹ The Finance Board refers to nonmember mortgagees as housing associates. In order to be certified as a housing associate, an applicant must meet the eligibility requirements set forth in section 10b of the Bank Act. Part 926 of the Finance Board regulations implements the statutory eligibility requirements and establishes uniform review criteria an applicant must meet in order to be certified as a housing associate by an FHLBank.² More specifically, sections 926.3 and 926.4 of the rule implement the statutory eligibility requirements and provide guidance to an applicant on how it may satisfy such requirements.³ Section 926.5 authorizes the FHLBanks to approve or deny all applications for certification as a housing associate, subject to the statutory and regulatory requirements.⁴ Section 926.6 permits an applicant to appeal an FHLBank decision to deny certification to the Finance Board.⁵

¹ See 12 U.S.C. 1430b.

² See 12 CFR 926.1-926.6. Formerly codified at 12 CFR 935.22—935.23. See 65 FR 8253, at 8256 (Feb. 18, 2000) and 65 FR 44414, at 44424-25, 44426-28 (July 18, 2000).

³ See 12 CFR 926.3-926.4. Formerly codified at 12 CFR 935.22. See 65 FR at 8256 and 65 FR at 44427.

⁴ See 12 CFR 926.5. Formerly codified at 12 CFR 935.23(a). See 65 FR at 8256 and 65 FR at 44427.

⁵ See 12 CFR 926.6. Formerly codified at 12 CFR 935.23(c)(4). See 65 FR at 8256 and 65 FR at 44428.

Section 950.17 of the Finance Board regulations establishes the terms and conditions under which an FHLBank may make advances to a certified housing associate. Section 950.17 also imposes a continuing obligation on a housing associate to provide information necessary to determine if it remains in compliance with applicable statutory and regulatory requirements.⁶

⁶ See 12 CFR 950.17. Formerly codified at 12 CFR 935.24. See 65 FR at 8256 and 65 FR at 444330-31.

The information collection contained in sections 926.1 through 926.6 and section 950.17 of the Finance Board regulations is necessary to enable the FHLBanks to determine whether an applicant satisfies the statutory and regulatory requirements to be certified initially and maintain its status as a housing associate eligible to receive FHLBank advances. The Finance Board requires and uses the information collection to determine whether to uphold or overrule an FHLBank decision to deny housing associate certification to an applicant.

The OMB number for the information collection is 3069-0005. The OMB clearance for the information collection expires on November 30, 2002.

The likely respondents include applicants for housing associate certification and current housing associates.

B. Burden Estimate

The Finance Board estimates the total annual average number of applicants at five, with one response per applicant. The estimate for the average hours per application is ten hours. The estimate for the annual hour burden for applicants is 50 hours (5 applicants × 1 response per applicant × 10 hours).

The Finance Board estimates the total annual average number of maintenance respondents, that is, certified housing associates, at 57, with 1 response per housing associate. The estimate for the average hours per maintenance response is 0.5 hours. The estimate for the annual hour burden for certified housing associates is 28.5 hours (57 certified housing associates × 1 response per associate × 0.5 hours).

The estimate for the total annual hour burden is 78.5 hours (57 housing associates × 1 response per associate × 0.5 hours + 5 applicants × 1 response per applicant × 10 hours).

C. Comment Request

The Finance Board requests written comments on the following: (1) Whether the collection of information is necessary for the proper performance of Finance Board functions, including whether the information has practical utility; (2) the accuracy of the Finance Board estimates of the burdens of the collection of information; (3) ways to enhance the quality, utility and clarity of the information collected; and (4) ways to minimize the burden of the collection of information on applicants and housing associates, including through the use of automated collection techniques or other forms of information technology.

By the Federal Housing Finance Board.
Dated: June 24, 2002.
Arnold Intrater,
Acting General Counsel.

[FR Doc. 02-16320 Filed 6-27-02; 8:45 am]

BILLING CODE 6725-01-P